DEPARTMENT OF THE INTERIOR

Bureau of Land Management

[LLCO956000 L14200000.BJ0000]

Notice of Correction to Filing of Plats, Colorado

AGENCY: Bureau of Land Management, Interior.

ACTION: Notice of Correction, Colorado.

SUMMARY: On May 23, 2012, the Bureau of Land Management (BLM) published a Notice of Filing of Plats by the Colorado State Office, Lakewood, Colorado [77 FR 30550]. The plat and field notes of the dependent resurvey and survey in Township 48 North, Range 6 West, New Mexico Principal Meridian, Colorado, accepted May 3, 2012, was incorrectly listed as Range 68 West. This Notice of Correction is intended to correct this to Range 6 West.

FOR FURTHER INFORMATION CONTACT: Randy Bloom, Chief Cadastral Surveyor for Colorado, (303) 239-3856, or by mail: Randy Bloom, Chief Cadastral Surveyor for Colorado, BLM, Colorado State Office, 2850 Youngfield Street, Lakewood, Colorado 80215-7093.

Randy Bloom,
Chief Cadastral Surveyor for Colorado.

[FR Doc. 2012-13441 Filed 6-1-12; 8:45 am]

BILLING CODE 4310-JB-P